DEPARTMENT OF AGRICULTURE

Animal and Plant Health Inspection Service

[Docket No. 02-087-1]

Availability of an Environmental Assessment

AGENCY: Animal and Plant Health Inspection Service, USDA.

ACTION: Notice of availability and request for comments.

SUMMARY: We are advising the public that an environmental assessment has been prepared by the Animal and Plant Health Inspection Service relative to the control of Pacific mealybug, Planococcus minor (Homoptera: Pseudococcidae). The environmental assessment considers the effects of, and alternatives to, the release of nonindigenous organisms into the environment for use as biological control agents to reduce the severity of Pacific mealybug infestations. We are making this environmental assessment available to the public for review and comment.

DATES: We will consider all comments that we receive on or before December 30, 2002.

ADDRESSES: You may submit comments by postal mail/commercial delivery or by e-mail. If you use postal mail/commercial delivery, please send four copies of your comment (an original and three copies) to: Docket No. 02-087-1, Regulatory Analysis and Development, PPD, APHIS, Station 3C71, 4700 River Road Unit 118, Riverdale, MD 20737-1238. Please state that your comment refers to Docket No. 02-087-1. If you use e-mail, address your comment to regulations@aphis.usda.gov. Your comment must be contained in the body of your message; do not send attached files. Please include your name and address in your message and “Docket No. 02-087-1” on the subject line.

You may read any comments that we receive on the environmental assessment in our reading room. The reading room is located in room 1141 of the USDA South Building, 14th Street and Independence Avenue SW., Washington, DC. Normal reading room hours are 8 a.m. to 4:30 p.m., Monday through Friday, except holidays. To be sure someone is there to help you, please call (202) 690-2817 before coming.

APHIS documents published in the Federal Register, and related information, including the names of organizations and individuals who have commented on APHIS dockets, are available on the Internet at http://www.aphis.usda.gov/ppd/rad/webrepor.html.

FOR FURTHER INFORMATION CONTACT: Dr. Dale Meyerdirk, Agriculturalist, National Biological Control Institute, PPQ, APHIS, 4700 River Road Unit 135, Riverdale, MD 20737-1236; (301) 734-5220.

SUPPLEMENTARY INFORMATION:

Background

The Animal and Plant Health Inspection Service (APHIS), U.S. Department of Agriculture (USDA), is proposing to release nonindigenous species of parasitic wasps and predators in the continental United States and U.S. territories in the Caribbean to control Pacific mealybug, Planococcus minor (Homoptera: Pseudococcidae). The following organisms are being considered for release:

• Encyrtid wasps in the genera Aenasius, Anagyrus, Gyranusoidea, Leptomastix, and Pseudaphycus;

• A pteromalid wasp, Patiana coccorum;

• Platygastrid wasps in the genus Allotropa;

• A lycaenid, Spalgis epius; and

• A coccinellid, Cryptolaemus affinus.

Pacific mealybug is a foreign plant pest that attacks over 240 different species of plants, including both agricultural and ornamental plants. It has invaded areas in American Samoa, the U.S. Virgin Islands, and Mexico. This pest could enter the eastern United States from Mexico or from the Carribean or enter California from Mexico or from the Pacific. The purpose of the proposed release of biological control agents is to suppress Pacific mealybug infestations.

The preferred alternative, biological control, is proposed because it is the best alternative to resolve the problems imposed by Pacific mealybug on various hosts. APHIS will import these biological control agents from different locations around the world into USDA-certified insect quarantine facilities, where species identifications will be confirmed by USDA and State taxonomists and undesirable organisms such as hyperparasites will be screened out and properly eliminated. Laboratory colonies reared on Pacific mealybug will be established by USDA, State, and U.S. territory cooperators in areas invaded by the Pacific mealybug.

It is expected that the biological control agents will be introduced into areas where the Pacific mealybug occurs and reproduce naturally without further human intervention, and that the stingless wasps and predators will become established throughout the eventual geographical distribution of Pacific mealybug in the United States. The biological characteristics of the organisms under consideration preclude any possibility of harmful effects on human health.

APHIS’ review and analysis of the potential environmental impacts associated with releasing nonindigenous organisms into the environment are documented in detail in an environmental assessment entitled “Control of Pacific Mealybug, Planococcus minor (Homoptera: Pseudococcidae)” (July 11, 2002). We are making this environmental assessment available to the public for review and comment. We will consider all comments that we receive by the date listed under the heading DATES at the beginning of this notice.

You may request copies of the environmental assessment by calling or writing to the person listed under FOR FURTHER INFORMATION CONTACT. Please refer to the title of the environmental assessment when requesting copies. The environmental assessment is also available for review in our reading room (information on the location and hours of the reading room is listed under the heading ADDRESSES at the beginning of this notice).

The environmental assessment has been prepared in accordance with: (1) The National Environmental Policy Act of 1969 (NEPA), as amended (42 U.S.C. 4321 et seq.), (2) regulations of the Council on Environmental Quality for implementing the procedural provisions of NEPA (40 CFR parts 1500-1508), (3) USDA regulations implementing NEPA (7 CFR part 1), and (4) APHIS’ NEPA Implementing Procedures (7 CFR part 372).

Done in Washington, DC, this 22nd day of November 2002.
Ron DeHaven,
Acting Administrator, Animal and Plant Health Inspection Service.

[FR Doc. 02-30224 Filed 11-27-02; 8:45 am]

BILLING CODE 3410-34-P